DEPARTMENT OF COMMERCE

Foreign-Trade Zones Board

[S-18-2022]

Approval of Subzone Status; Kaiser Premier LLC, Fort Morgan, Colorado

On February 9, 2022, the Executive Secretary of the Foreign-Trade Zones (FTZ) Board docketed an application submitted by the City and County of Denver, grantee of FTZ 123, requesting subzone status subject to the existing activation limit of FTZ 123, on behalf of Kaiser Premier LLC, in Fort Morgan, Colorado.

The application was processed in accordance with the FTZ Act and Regulations, including notice in the Federal Register inviting public comment (87 FR 8563, February 15, 2022). The FTZ staff examiner reviewed the application and determined that it meets the criteria for approval. Pursuant to the authority delegated to the FTZ Board Executive Secretary (15 CFR Sec. 400.36(f)), the application to establish Subzone 123J was approved on March 31, 2022, subject to the FTZ Act and the Board's regulations, including Section 400.13, and further subject to FTZ 123's 858-acre activation limit.

Dated: March 31, 2022.
Andrew McGilvray,
Executive Secretary.

[FR Doc. 2022-07216 Filed 4-5-22; 8:45 am]

BILLING CODE 3510-DS-P